SECURITIES AND EXCHANGE COMMISSION

[File No. 500-1]

American Energy Services, Inc., Dynacore Patent Litigation Trust, Earth Sciences, Inc., Empiric Energy, Inc., Future Carz, Inc., NBI, Inc., Noble Group Holdings, Inc. (f/k/a Leasing Solutions, Inc. and Le Bon Table Brand Foods Corp.), Reliance Acceptance Group, Inc., and Vegas Equity International Corp.; Order of Suspension of Trading

June 15, 2010.

It appears to the Securities and Exchange Commission that there is a lack of current and accurate information concerning the securities of American Energy Services, Inc. because it has not filed any periodic reports since the period ended November 30, 2002.

It appears to the Securities and Exchange Commission that there is a lack of current and accurate information concerning the securities of Dynacore Patent Litigation Trust because it has not filed any periodic reports since the period ended September 30, 2003.

It appears to the Securities and Exchange Commission that there is a lack of current and accurate information concerning the securities of Earth Sciences, Inc. because it has not filed any periodic reports since the period ended March 31, 2004.

It appears to the Securities and Exchange Commission that there is a lack of current and accurate information concerning the securities of Empiric Energy, Inc. because it has not filed any periodic reports since the period ended September 30, 2003.

It appears to the Securities and Exchange Commission that there is a lack of current and accurate information concerning the securities of Future Carz, Inc. because it has not filed any periodic reports since the period ended March 31, 2004.

It appears to the Securities and Exchange Commission that there is a lack of current and accurate information concerning the securities of NBI, Inc. because it has not filed any periodic reports since the period ended March 31, 2003.

It appears to the Securities and Exchange Commission that there is a lack of current and accurate information concerning the securities of Noble Group Holdings, Inc. (f/k/a Leasing Solutions, Inc. and Le Bon Table Brand Foods Corp.) because it has not filed any periodic reports since the period ended December 31, 1998.

It appears to the Securities and Exchange Commission that there is a lack of current and accurate information concerning the securities of Reliance Acceptance Group, Inc. because it has not filed any periodic reports since the period ended September 30, 1997.

It appears to the Securities and Exchange Commission that there is a lack of current and accurate information concerning the securities of Vegas Equity International Corp. because it has not filed any periodic reports since the period ended December 31, 2005.

The Commission is of the opinion that the public interest and the protection of investors require a suspension of trading in the securities of the above-listed companies. Therefore, it is ordered, pursuant to Section 12(k) of the Securities Exchange Act of 1934, that trading in the securities of the above-listed companies is suspended for the period from 9:30 a.m. EDT on June 15, 2010, through 11:59 p.m. EDT on June 28, 2010.

By the Commission.
Jill M. Peterson,
Assistant Secretary.

[FR Doc. 2010-14735 Filed 6-15-10; 11:15 am]

BILLING CODE 8010-01-P